NATIONAL ARCHIVES AND RECORDS ADMINISTRATION

[NARA-2017-020]

Records Management; General Records Schedule (GRS); GRS Transmittal 27

AGENCY: National Archives and Records Administration (NARA).

ACTION: Notice of new General Records Schedule (GRS) Transmittal 27.

SUMMARY: NARA is issuing a new set of General Records Schedules (GRS) via GRS Transmittal 27. The GRS provides mandatory disposition instructions for administrative records common to several or all Federal agencies. Transmittal 27 announces changes we have made to the GRS since we published Transmittal 26 in August and September 2016. We are concurrently disseminating Transmittal 27 (the memo and the accompanying records schedules and documents) directly to each agency's records management official and have also posted it on NARA's Web site.

DATES: This transmittal is effective the date it publishes in the Federal Register.

ADDRESSES: You can find this transmittal on NARA's Web site at http://www.archives.gov/records-mgmt/grs/. You can download the complete current GRS, in PDF format, from NARA's Web site at http://www.archives.gov/records-mgmt/grs.html.

FOR FURTHER INFORMATION CONTACT: For more information about this notice or to obtain paper copies of the GRS, contact Kimberly Keravuori, External Policy Program Manager, at regulation_comments@nara.gov, or by telephone at 301.837.3151.

You may contact NARA's GRS Team with general questions about the GRS at GRS_Team@nara.gov. Writing and maintaining the GRS is the GRS Team's responsibility. This team is part of Records Management Services in the National Records Management Program, Office of the Chief Records Officer at NARA.

Your agency's records officer may contact the NARA appraiser or records analyst with whom your agency normally works for support in carrying out this transmittal and the revised portions of the GRS. You may access a list of the appraisal and scheduling work group and regional contacts on our Web site at http://www.archives.gov/records-mgmt/appraisal/index.html.

SUPPLEMENTARY INFORMATION: GRS Transmittal 27 announces changes to the General Records Schedules (GRS) made since NARA published GRS Transmittal 26 in September 2016. The GRS provide mandatory disposition instructions for records common to several or all Federal agencies. We are more than half-way through a 5-year plan to completely rewrite the GRS. With Transmittal 27, 61% of old items are now superseded.

Transmittal 27 introduces a significant change in the way we publish transmittals and indeed the entire GRS. Transmittal 26 included all current schedules: new schedules (with new-to-old crosswalks and Frequently Asked Questions [FAQs]), old schedules annotated for supersession by new schedules, and an old-to-new crosswalk for the entire old GRS. Transmittal 27 includes only schedules newly issued or updated since the last transmittal (with new-to-old crosswalks and FAQs for each).

Users may find the entire set of GRS at http://www.archives.gov/records-mgmt/grs.html, both individually and in a single document containing just schedules (no crosswalks or FAQs). FAQs about the whole GRS and the GRS Update Project no longer appear in new Transmittals. You can still access them at http://www.archives.gov/records-mgmt/grs.html.

What changes does this transmittal make to the GRS?

GRS Transmittal 27 publishes five new schedules:

GRS 2.6 Employee Training Records (DAA-GRS-2016-0014)

GRS 5.3 Continuity and Emergency Planning Records (DAA-GRS-2016-0004)

GRS 5.4 Facility, Equipment, Vehicle, Property, and Supply Records (DAA-GRS-2016- 0011)

GRS 5.5 Mail, Printing, and Telecommunication Service Management Records (DAA-GRS 2016-0012)

GRS 6.4 Public Affairs Records (DAA-GRS-2016-0005)

It also publishes new or updated items in four schedules:

GRS 1.1 Financial Management and Reporting Records (see question 3)

GRS 2.5 Employee Separation Records (see question 4)

GRS 3.1 General Technology Management Records (see question 5)

GRS 4.2 Information Access and Protection Records (see question 6)

This transmittal also updates the general FAQs on Deviations, clarifying the definition of a deviation to the GRS, and how GRS deviations differ from GRS notifications.

How has GRS 1.1 changed? How might these changes affect my agency?

We added one new item (001) to cover financial management and reporting administrative records.

How has GRS 2.5 changed?

We added two news items (050 and 051) for records created by phased retirement programs.

How has GRS 3.1 changed?

We added one new item (001) to cover technology management administrative records.

How has GRS 4.2 changed?

We added two new items. Item 001 covers administrative records on FOIA, Privacy Act, and classified documents. Item 180 covers virtual public access library records. Also, we slightly altered titles of items 060, 061, 120, and 121 from what appeared in Transmittal 26 to match the titles under which they were approved in ERA. The new titles alter neither meaning nor coverage of the items.

What GRS items does GRS Transmittal 27 rescind?

Many old GRS items are superseded by new GRS items. A few old items, however, have outlived their usefulness and cannot be crosswalked to new items. The table below lists old items newly rescinded by GRS Transmittal 27.

GRS | Item | Title | Reason
10 | 11a | Recordkeeping copies of maintenance manuals for unique or customized aircraft | Only a very few agencies create these records. They relate to agencies' missions and should therefore be scheduled on an agency-specific schedule.
12 | 3b | Copies of incoming and original copies of outgoing messages, including Standard Form (SF) 14, Telegraphic Message maintained by communications offices or centers, and EXCLUDING the copies maintained by originating program office | Telegram service in the United States ceased January 27, 2006. The last telegram in the world was sent in India on July 14, 2013. The very short two-month retention of these records means that none should now exist. SF 14 has been discontinued.
14 | 3 | Press Service files | These records appear to no longer exist.
18 | 29a | National Defense Executive Reserve (NDER) case files on reservists | According to FEMA, the National Defense Executive Reserve program has been dormant for the past 5 years and no agency has open programs. For this reason, FEMA suggested that we rescind these items.
18 | 29b | National Defense Executive Reserve case files on individuals whose applications were rejected or withdrawn
27 | 6 | CIO subject and office records | CIOs are considered high-level officials under Capstone email guidance. It is therefore not appropriate to schedule these records as universally temporary.
27 | 7 | CIO schedules of daily activities

Rescinded items are shown in context of their schedules in the old-to-new crosswalk.

How do I cite new GRS items?

When you send records to an FRC for storage, you should cite the records' legal authority—the “DAA” number—in the “Disposition Authority” column of the table. For informational purposes, please include schedule and item number. For example, “DAA-GRS-2013-0001-0004 (GRS 4.3, item 020).”

Do I have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must submit a records schedule to NARA for approval via the Electronic Records Archives.

How do I get copies of the new GRS?

You can download the complete current GRS, in PDF format, from NARA's Web site at http://www.archives.gov/records-mgmt/grs.html.

Whom do I contact for further information?

Writing and maintaining the GRS is the responsibility of the GRS Team. You may contact the team with general questions about the GRS at GRS_Team@nara.gov. This team is part of Records Management Services in the National Records Management Program of the Office of the Chief Records Officer at NARA.

Your agency's records officer may contact the NARA appraiser or records analyst with whom your agency normally works for support in carrying out this transmittal. A list of the appraisal and scheduling work group and regional contacts is on the NARA Web site at http://www.archives.gov/records-mgmt/appraisal/index.html.

Dated: January 3, 2017.
David S. Ferriero,
Archivist of the United States.

[FR Doc. 2017-00157 Filed 1-6-17; 8:45 am]

BILLING CODE 7515-01-P